ENVIRONMENTAL PROTECTION AGENCY

40 CFR Part 52

[EPA-R05-OAR-2004-WI-0002; FRL-8280-5]

Federal Implementation Plan Under the Clean Air Act for Certain Trust Lands of the Forest Country Potawatomi Community Reservation if Designated as a PSD Class I Area; State of Wisconsin

AGENCY: Environmental Protection Agency (EPA).

ACTION: Announcement of public hearings and extension of the comment period.

SUMMARY: The EPA is announcing two public hearings on our proposed “Federal Implementation Plan Under the Clean Air Act for Certain Trust Lands of the Forest Country Potawatomi Community Reservation if Designated as a PSD Class I Area; State of Wisconsin.” We are also extending the comment period from January 17, 2007, until April 27, 2007, 30 days from the second public hearing. This proposed rulemaking was published in the Federal Register on December 18, 2006 (71 FR 75694), and proposes to promulgate a Federal Implementation Plan (FIP) if it approves the Forest County Potawatomi (FCP) Community's request to redesignate certain trust lands as a Class I area under the Prevention of Significant Deterioration (PSD) program.

DATES: Public Hearing. The first public hearing will be held in Crandon, Wisconsin, at the Forest County Potawatomi Executive Building, starting at 6 p.m. CDT on March 27, 2007, and will continue until 8:30 p.m. The second public hearing will be held at the Crandon Community Building in Crandon, Wisconsin, starting at 2 p.m. CDT on March 28, 2007 and will continue until 4:30 p.m.

Comments. Comments on the proposed rulemaking must be received on or before April 27, 2007.

ADDRESSES: Public Hearing. The March 27, 2007, public hearing will be held at the Forest County Potawatomi Executive Building, 5416 Everybody's Road, in Crandon, Wisconsin, and the March 28, 2007, public hearing will be held at the Crandon Community Building, 601 West Washington Street, Crandon, Wisconsin.

Comments. Submit your comments, identified by Docket ID No. EPA-R05-OAR-2004-WI-0002 by one of the following methods:

• www.regulations.gov. Follow the on-line instructions for submitting comments.

• E-mail: a-and-r-docket@epamail.epa.gov.

• Fax: 202-566-1741.

• Mail: Attention Docket ID No. EPA-R05-OAR-2004-WI-0002, U.S. Environmental Protection Agency, EPA West (Air Docket), 1200 Pennsylvania Avenue, Northwest, Mailcode: 6102T, Washington, DC 20460. Please include a total of 2 copies.

• Hand Delivery: U.S. Environmental Protection Agency, EPA West (Air Docket), 1301 Constitution Avenue, Northwest, Room 3334, Washington, DC 20004, Attention Docket ID No. EPA-R05-OAR-2004-WI-0002. Such deliveries are only accepted during the Docket's normal hours of operation, and special arrangements should be made for deliveries of boxed information.

Instructions. Direct your comments to Docket ID No. EPA-R05-OAR-2004-WI-0002. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the U.S. Environmental Protection Agency, Air Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

SUPPLEMENTARY INFORMATION:

I. General Information

A. What Should I Consider as I Prepare My Comment for EPA?

1. Submitting CBI. Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, OAQPS Document Control Officer (C404-02), U.S. EPA, Research Triangle Park, NC 27711, Attention Docket ID No. EPA-HQ-OAR-2003-0076.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

B. Where Can I Get a Copy of This Document and Other Related Information?

In addition to being available in the docket, an electronic copy of this notice will also be available on the World Wide Web. Following signature by the Regional Administrator, a copy of this notice will be posted at http://www.epa.gov/nsr.

C. What Will Occur at the Public Hearings?

The public hearings will provide interested parties the opportunity to present data, views, or arguments concerning this proposed change. The EPA may ask clarifying questions during the oral presentations, but will not respond to the presentations at that time. Written statements and supporting information submitted during the comment period will be considered with the same weight as any oral comments and supporting information presented at the hearing.

Dated: February 13, 2007.
Bharat Mathur,
Acting Regional Administrator, Region 5.

[FR Doc. 07-826 Filed 2-22-07; 8:45 am]

BILLING CODE 6560-50-P